DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 5, 2009.

Interested persons are invited to submit written comments regarding the subject matter of the investigations to the Director, Division of Trade Adjustment Assistance, at the address shown below, not later than February 5, 2009.

The petitions filed in this case are available for inspection at the Office of the Director, Division of Trade Adjustment Assistance, Employment and Training Administration, U.S. Department of Labor, Room N-5428, 200 Constitution Avenue, NW., Washington, DC 20210.

Signed at Washington, DC, this 16th day of January 2009.
Linda G. Poole,
Certifying Officer, Division of Trade Adjustment Assistance.

Appendix
[TAA petitions instituted between 1/5/09 and 1/9/09]
TA-W | Subject firm (petitioners) | Location | Date of institution | Date of petition
64807 | Versa Diecast, Inc. (State) | New Hope, MN | 01/05/09 | 12/31/08
64808 | Fiskars Brands, Inc. (Comp) | Wausau, WI | 01/05/09 | 12/29/08
64809 | S & B Industry Technologies, L.P. (Comp) | Fort Worth, TX | 01/05/09 | 01/02/09
64810 | Legere Group, Ltd. dba Legere Wooodworking (State) | Avon, CT | 01/05/09 | 12/05/08
64811 | Clayton Marcus Company—Plant 1—Bethlehem (Comp) | Hickory, NC | 01/06/09 | 12/29/08
64812 | LuK USA LLC (Comp) | Wooster, OH | 01/06/09 | 12/19/08
64813 | Gerber Scientific, Inc. (State) | Tolland, CT | 01/06/09 | 01/05/09
64814 | PPM Technologies, Inc. (Wkrs) | Newberg, OR | 01/06/09 | 12/30/08
64815 | Pittsburgh Corning Corporation (Union) | Port Allegany, PA | 01/06/09 | 01/05/09
64816 | Northwest Aluminum Specialties (USW) | The Dalles, OR | 01/06/09 | 12/19/08
64817 | Boise, Inc. (AWPPW) | St. Helens, OR | 01/07/09 | 12/17/08
64818 | Concept Packaging Group (Comp) | Griffin, GA | 01/07/09 | 01/06/09
64819 | Teck-Washington, Inc. (Comp) | Metaline Falls, WA | 01/07/09 | 01/06/09
64820 | Tenneco Automotive (Comp) | Evansville, IN | 01/07/09 | 01/06/09
64821 | Cone Jacquards, LLC—An ITG Company (Comp) | Cliffside, NC | 01/07/09 | 01/06/09
64822 | Pulaski Furniture Corporation (Wkrs) | Pulaski, VA | 01/07/09 | 01/06/08
64823 | Martin Transportation Systems (Wkrs) | Huber Heights, OH | 01/07/09 | 12/29/08
64824 | IACNA (Wkrs) | Lebanon, VA | 01/07/09 | 12/29/08
64825 | Briggs-Shaffner Company (Comp) | Simpsonville, SC | 01/07/09 | 12/22/08
64826 | Thomasville Furniture Industries, Inc. (Comp) | Thomasville, NC | 01/07/09 | 01/06/09
64827 | Thomasville Furniture Industries, Ind.—Plant E (Comp) | Thomasville, NC | 01/07/09 | 01/06/09
64828 | Thomasville Furniture Industries, Ind.—Upholstery 5 (Comp) | Conover, NC | 01/07/09 | 01/06/09
64829 | Cooper Tire and Rubber Company (Comp) | Albany, GA | 01/07/09 | 01/05/09
64830 | Philips Lumileds Lighting Company (Comp) | San Jose, CA | 01/08/09 | 01/07/09
64831 | ATC Panels, Inc. (Comp) | Morrisville, NC | 01/08/09 | 01/07/09
64832 | Photronics (Comp) | Boise, ID | 01/08/09 | 01/07/09
64833 | Carrier Corporation (SMWIA) | Tyler, TX | 01/08/09 | 01/07/09
64834 | Regal Beloit (Wkrs) | West Plains, MO | 01/08/09 | 01/05/09
64835 | Logistics Services (Wkrs) | Dayton, OH | 01/08/09 | 12/26/08
64836 | Black Dot Group (Comp) | Winter Park, FL | 01/08/09 | 01/07/09
64837 | Bill Blass International (UNITE) | New York, NY | 01/09/09 | 12/23/08
64838 | Cosby National Swage (State) | Jacksonville, AR | 01/09/09 | 01/08/09
64839 | Sony Technology Center-Pittsburgh (Comp) | Mt. Pleasant, PA | 01/09/09 | 01/09/09
64840 | International Paper (AFLCIO) | Cleveland, TN | 01/09/09 | 12/18/08
64841 | MAR/TRON, Inc. (State) | Flippin, AR | 01/09/09 | 01/08/09
64842 | American & Efird, Nelson 02 Plant (Comp) | Lenoir, NC | 01/09/09 | 01/08/09
64843 | TDK Components USA, Inc. (Comp) | Peachtree City, GA | 01/09/09 | 01/08/09
64844 | Coherent, Inc. (Comp) | Auburn, CA | 01/09/09 | 01/08/09
64845 | Reach Road Manufacturing (Wkrs) | Williamsport, PA | 01/09/09 | 12/23/08
64846 | Tracker Marine (Wkrs) | Bolivar, MO | 01/09/09 | 01/07/09
64847 | Brunswick Family Boat Co., Inc. (State) | Cumberland, MD | 01/09/09 | 01/08/09
64848 | Ozark Mountain Apparel—Monett (State) | Monett, MO | 01/09/09 | 01/08/09
64849 | Ozark Mountain Apparel—Purdy (State) | Purdy, MO | 01/09/09 | 01/08/09
64850 | NCO Financial Systems (Wkrs) | Horsham, PA | 01/09/09 | 12/05/08

[FR Doc. E9-1493 Filed 1-23-09; 8:45 am]

BILLING CODE 4510-FN-P